DEPARTMENT OF THE INTERIOR

Bureau of Land Management

[LLORP00000.L14400000.DU0000.15XL1116AF. HAG15-0187]

Notice of Intent to Prepare a Resource Management Plan Amendment and Associated Environmental Assessment for the Brothers/La Pine Planning Area in the Prineville District Office, Oregon

AGENCY: Bureau of Land Management, Interior.

ACTION: Notice of Intent.

SUMMARY: In compliance with the National Environmental Policy Act of 1969, as amended (NEPA), and the Federal Land Policy and Management Act of 1976, as amended (FLPMA), the Bureau of Land Management (BLM) Prineville District Office, Prineville, Oregon, intends to prepare a Resource Management Plan (RMP) amendment with an associated Environmental Assessment (EA) in order to analyze the plan level decision to change the land tenure classification of approximately 18 acres. The legal description of the affected public lands includes the BLM lands listed below:

Willamette Meridian, Oregon

T. 16 S., R. 18E., the N1/2 of the N1/2 of the NE1/4 of the SE1/4 of the NW 1/4 of section 8; the NW1/4 of the SE1/4 of the NW 1/4 of section 8; and the N1/2 of the SW1/4 of the SE1/4 of the NW1/4 of section 8, from Zone 1 (Retention) to Zone 3 (Suitable for Disposal), and by this notice is announcing the beginning of the scoping process to solicit public comments and identify issues. The BLM intends to concurrently analyze a trespass resolution strategy for an unintentional occupancy developed on a portion of the 18 acres in 1995. The trespass consists of a 2,500 square-foot log home, two barns, greenhouse, windmill, and a buried pipeline that transports water from a spring on private land to a water storage tank. The strategy will consider a range of alternatives including the direct sale of the entire 18 acres and issuance of a right-of-way via an existing driveway, to the removal of all structures and rehabilitation of any disturbed sites.

DATES: This notice initiates the public scoping process for the RMP amendment with associated EA. Comments on issues may be submitted in writing until September 14, 2015. The date(s) and location(s) of any scoping meetings will be announced at least 15 days in advance through local news media, newspapers and the BLM, Prineville District Web site at: http://www.blm.gov/or/districts/prineville/index.php. In order to be included in the analysis, all comments must be received prior to the close of the 30-day scoping period or 15 days after the last public meeting, whichever is later. The District will provide additional opportunities for public participation as appropriate.

ADDRESSES: You may submit comments on issues and planning criteria related to the Direct Public Land Sale and Land Tenure Classification Plan Amendment EA by any of the following methods:

• Web site: http://www.blm.gov/or/districts/prineville/index.php

• Email: BLM_OR_PR_Front_Desk@blm.gov

• Fax: 1-541-416-6782

• Mail: Direct Public Land Sale and Land Tenure Classification Plan Amendment EA, 3050 NE. 3rd Street, Prineville, OR 97754

Documents pertinent to this proposal may be examined at the Prineville District Office, 3050 NE. 3rd Street, Prineville, OR 97754.

FOR FURTHER INFORMATION CONTACT: For further information and/or to have your name added to our mailing list, contact Susie Manezes, Assistant Field Manager, telephone 1-541-416-6725; address Susie Manezes, 3050 NE. 3rd Street, Prineville, OR 97754; email smanezes@blm.gov. Persons who use a telecom-munications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM District Office, Prineville, Oregon, intends to prepare an RMP amendment with an associated EA for the Brothers/La Pine planning area, announces the beginning of the scoping process, and seeks public input on issues and planning criteria. The affected portion of the Brothers/La Pine planning area is an approximately 18-acre contiguous parcel of land located in Crook County in Oregon as follows:

Willamette Meridian, Oregon: T. 16 S., R. 18 E., the N1/2 of the N1/2 of the NE1/4 of the SE1/4 of the NW 1/4 of section 8; the NW1/4 of the SE1/4 of the NW 1/4 of section 8; and the N1/2 of the SW1/4 of the SE1/4 of the NW1/4 of section 8.

The purpose of the public scoping process is to determine relevant issues that will influence the scope of the environmental analysis, including alternatives, and guide the planning process. Preliminary issues for the plan amendment area have been identified by BLM personnel; Federal, state, and local agencies; and other stakeholders. The issues include: how would the proposed change in land tenure classification and an associated direct sale of 18 acres of public land along with the issuance of a road use right-of-way affect sage-grouse; and, how would the proposed land tenure classification change affect Native American spiritual and traditional uses. Preliminary planning criteria include: the plan will be completed in compliance with FLPMA, NEPA, and all other relevant Federal law, Executive orders, and management policies of the BLM; where existing planning decisions are still valid, those decisions may remain unchanged and be incorporated into the new amendment; the plan will recognize valid existing rights; and Native American tribal consultations will be conducted in accordance with policy and tribal concerns will be given due consideration. The planning process will include the consideration of any impacts on Indian trust assets. You may submit comments on issues and planning criteria in writing to the BLM at any public scoping meeting, or you may submit them to the BLM using one of the methods listed in the ADDRESSES section above. To be most helpful, you should submit comments by the close of the 30-day scoping period or within 15 days after the last public meeting, whichever is later.

The BLM will use the NEPA public participation requirements to assist the agency in satisfying the public involvement requirements under section 106 of the National Historic Preservation Act (NHPA) (16 U.S.C. 470(f)) pursuant to 36 CFR 800.2(d)(3). The BLM will consult with Indian tribes on a government-to-government basis in accordance with E. O. 13175 and other policies. Tribal concerns, including impacts on Indian trust assets and potential impacts to cultural resources, will be given due consideration. Federal, state, and local agencies, along with tribes and other stakeholders that may be interested in or affected by the proposed action that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed. The BLM will evaluate identified issues to be addressed in the plan, and will place them into one of three categories:

1. Issues to be resolved in the plan amendment;

2. Issues to be resolved through policy or administrative action; or

3. Issues beyond the scope of this plan amendment.

The BLM will provide an explanation in the EA as to why an issue was placed in category two or three. The public is also encouraged to help identify any management questions and concerns that should be addressed in the plan. The BLM will work collaboratively with interested parties to identify the management decisions that are best suited to local, regional, and national needs and concerns.

The BLM will use an interdisciplinary approach to develop the plan amendment in order to consider the variety of resource issues and concerns identified. Specialists with expertise in the following disciplines will be involved in the planning process: rangeland management, minerals and geology, outdoor recreation, visual resource management, archeology, paleontology, wildlife, botany, lands and realty, hydrology, soils, sociology and economics.

Authority: 40 CFR 1501.7 and 43 CFR 1610.2.

Carol Benkosky,
Prineville District Manager.

[FR Doc. 2015-20060 Filed 8-13-15; 8:45 am]

BILLING CODE 4310-33-P